SMALL BUSINESS ADMINISTRATION

[Disaster Declaration #16056 and #16057; MISSOURI Disaster Number MO-00099]

Presidential Declaration Amendment of a Major Disaster for Public Assistance Only for the State of Missouri

AGENCY: U.S. Small Business Administration.

ACTION: Amendment 1.

SUMMARY: This is an amendment of the Presidential declaration of a major disaster for Public Assistance Only for the State of MISSOURI (FEMA-4451-DR), dated 07/29/2019.

Incident: Severe Storms, Tornadoes, and Flooding.

Incident Period: 04/29/2019 through 07/05/2019.

DATES: Issued on 09/30/2019.

Physical Loan Application Deadline Date: 09/27/2019.

Economic Injury (EIDL) Loan Application Deadline Date: 04/29/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Missouri, dated 07/29/2019, is hereby amended to include the following areas as adversely affected by the disaster.

Primary Counties: Benton, Boone, Callaway, Clay, Cooper, Dunklin, Gasconade, Howard, Lafayette, Lincoln, Pulaski, Saint Charles, Saint Clair, Saint Louis City, Scott.

All other information in the original declaration remains unchanged.

(Catalog of Federal Domestic Assistance Number 59008)

James Rivera,
Associate Administrator for Disaster Assistance.

[FR Doc. 2019-21923 Filed 10-7-19; 8:45 am]

BILLING CODE 8026-03-P